DEPARTMENT OF HOMELAND SECURITY

Coast Guard

33 CFR Part 117

[Docket No. USCG-2014-0915]

Drawbridge Operation Regulations; Newtown Creek, Dutch Kills, English Kills and Their Tributaries, NY

AGENCY: Coast Guard, DHS.

ACTION: Notice of deviation from drawbridge regulation.

SUMMARY: The Coast Guard has issued a temporary deviation from the operating schedule that governs the operation of the Metropolitan Avenue Bridge across English Kills, mile 3.4, at Brooklyn, New York. The bridge owner, New York City Department of Transportation, will be performing electrical repairs at the bridge. This deviation is necessary to allow the bridge to remain in the closed position for three days to facilitate scheduled bridge maintenance.

DATES: This deviation is effective from 7 a.m. on November 17, 2014 through 4 p.m. on November 20, 2014.

ADDRESSES: The docket for this deviation, [USCG-2014-0915] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, telephone (212) 668-7165, judy.k.leumg-yee@uscg.mil. If you have questions on viewing the docket, call Cheryl Collins, Program Manager, Docket Operations, telephone (202) 366-9826.

SUPPLEMENTARY INFORMATION: The Metropolitan Avenue Bridge, across English Kills, mile 3.4, at Brooklyn, New York, has a vertical clearance in the closed position of 10 feet at mean high water and 15 feet at mean low water. The bridge operating regulations are listed at 33 CFR 117.801(e).

The waterway is transited by recreational and commercial vessels of various sizes.

The bridge owner, New York City Department of Transportation, requested a temporary deviation from the normal operating schedule to facilitate electrical repairs at the bridge.

Under this temporary deviation the Metropolitan Avenue Bridge shall remain in the closed position from 7 a.m. on November 17, 2014 through 4 p.m. on November 20, 2014.

There are no alternate routes for vessel traffic; however, vessels that can pass under the closed draws during this closure may do so at any time. The bridge may be opened in the event of an emergency.

The Coast Guard will inform the users of the waterways through our Local and Broadcast Notice to Mariners of the change in operating schedule for the bridges so that vessels can arrange their transits to minimize any impact caused by the temporary deviation.

In accordance with 33 CFR 117.35(e), the drawbridge must return to its regular operating schedule immediately at the end of the effective period of this temporary deviation. This deviation from the operating regulations is authorized under 33 CFR 117.35.

Dated: October 9, 2014.
C.J. Bisignano,
Supervisory Bridge Management Specialist, First Coast Guard District.

[FR Doc. 2014-25010 Filed 10-20-14; 8:45 am]

BILLING CODE 9110-04-P